ENVIRONMENTAL PROTECTION AGENCY

[EPA-R10-OW-2017-0369; FRL9968-06-Region 10]

Public Hearings: Proposal To Withdraw Proposed Determination To Restrict the Use of an Area as a Disposal Site; Pebble Deposit Area, Southwest Alaska

AGENCY: Environmental Protection Agency (EPA).

ACTION: Announcement of public hearing dates.

SUMMARY: The Environmental Protection Agency (EPA) will hold two public hearings to obtain public testimony and comment on its proposal to withdraw the EPA Region 10 July 2014 Proposed Determination that was issued pursuant to the Clean Water Act. The public hearings will be held on October 11, 2017, from 6:00-9:00 p.m. Alaska Daylight Time (AKDT) in Dillingham, Alaska, and October 12, 2017, from 1:00-4:00 p.m. AKDT in Iliamna, Alaska. The EPA will continue to accept written public comments through the close of the public comment period on October 17, 2017.

DATES: Comments must be received on or before October 17, 2017.

ADDRESSES: Submit your comments, identified by Docket ID No. EPA-R10-OW-2017-0369, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Visit www.epa.gov/bristolbay or contact a Bristol Bay-specific phone line, (206) 553-0040, or email address, r10bristolbay@epa.gov.

SUPPLEMENTARY INFORMATION:

I. General Information

A. Public Hearings

The EPA will hold two public hearings on its proposal to withdraw the EPA Region 10 July 2014 Proposed Determination. The hearing dates and locations are as follows:

October 11, 2017—6:00-9:00 p.m. AKDT, Dillingham Middle School Gym, Dillingham, Alaska

October 12, 2017—1:00-4:00 p.m. AKDT, Iliamna Community Center, Iliamna, Alaska

Additional hearing details and any changes to the schedule are available at www.epa.gov/bristolbay. The purpose of the public hearings is to obtain public testimony and comment on the proposal to withdraw the EPA Region 10 July 2014 Proposed Determination that was issued pursuant to Section 404(c) of the Clean Water Act. Senior leadership from EPA Headquarters and Region 10 will be in attendance, along with staff from both EPA Headquarters and Region 10. Any person may attend the hearings and submit oral and/or written statements or data and may be represented by counsel or other authorized representatives. If you would like to submit written comments, you may do so at the public hearings or by one of the methods described in the section of this public notice entitled: How to Submit Comments to the Docket at www.regulations.gov.

The EPA will not respond to questions/comments during the hearing. The EPA will consider the oral and written statements received at the public hearings and other written comments submitted pursuant to the instructions set forth in the section of this public notice entitled: How to Submit Comments to the Docket at www.regulations.gov.

B. Background

On July 19, 2017, EPA published a public notice and request for comment in the Federal Register, entitled “Proposal to Withdraw Proposed Determination to Restrict the Use of an Area as a Disposal Site; Pebble Deposit Area, Southwest Alaska” (82 FR 33123). The EPA Administrator and Region 10 Acting Regional Administrator are requesting public comment on this proposal to withdraw the EPA Region 10 July 2014 Proposed Determination that was issued pursuant to Section 404(c) of the Clean Water Act, to restrict the use of certain waters in the South Fork Koktuli River, North Fork Koktuli River, and Upper Talarik Creek watersheds in southwest Alaska as disposal sites for dredged or fill material associated with mining the Pebble deposit, a copper-, gold-, and molybdenum-bearing ore body. The EPA agreed to initiate this proposed withdrawal process pursuant to policy direction from EPA's Administrator and as part of a May 11, 2017 settlement agreement with the Pebble Limited Partnership (PLP), whose subsidiaries own the mineral claims to the Pebble deposit. The Agency is accepting public comment through the aforementioned notice to afford the public an opportunity to comment on:

• Whether to withdraw the July 2014 Proposed Determination at this time for the reasons stated in the aforementioned notice; and

• if a final withdrawal decision is made following this comment period, whether the Administrator should review and reconsider the withdrawal decision.

C. How To Submit Comments to the Docket

In addition to submitting your comments during the hearing, you may also submit your comments, identified by Docket ID No. EPA-R10-OW-2017-0369, by one of the following methods:

a. Federal eRulemaking Portal (recommended method of comment submission): Go to http://www.regulations.gov and follow the online instructions for submitting comments.

b. Email: Send email to ow-docket@epa.gov. Include the docket number EPA-R10-OW-2017-0369 in the subject line of the message.

c. Mail: Send your comments to: Water Docket, Environmental Protection Agency, Mail Code 28221T, 1200 Pennsylvania Avenue NW., Washington, DC 20460, Attention: Docket ID No. EPA-R10-OW-2017-0369.

d. Hand Delivery/Courier: Deliver your comments to EPA Docket Center, EPA West, Room 3334, 1301 Constitution Avenue NW., Washington, DC 20460, Attention: Docket ID No. EPA-R10-OW-2017-0369. Such deliveries are accepted only during the Docket's normal hours of operation, 8:30 a.m. to 4:30 p.m. ET, Monday through Friday (excluding legal holidays). Special arrangements should be made for deliveries of boxed information. The telephone number for the Water Docket is (202) 566-2426.

Dated: September 13, 2017.
Michelle Pirzadeh
Acting Regional Administrator, EPA Region 10.

[FR Doc. 2017-20065 Filed 9-20-17; 8:45 am]

BILLING CODE 6560-50-P